SECURITIES AND EXCHANGE COMMISSION

Sunshine Act Meeting

Notice is hereby given, pursuant to the provisions of the Government in the Sunshine Act, Pub. L. 94-409, that the Securities and Exchange Commission will hold the following meetings during the week of August 16, 2004:

Closed Meetings will be held on Tuesday, August 17, 2004 at 2 p.m. and Thursday, August 19, 2004 at 2 p.m.

An Open Meeting will be held on Wednesday, August 18, 2004 at 10 a.m., in Room 1C30, the William O. Douglas Meeting Room.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), 9(ii) and (10), permit consideration of the scheduled matters at the Closed Meetings.

Commissioner Goldschmid, as duty officer, voted to consider the items listed for the closed meetings in closed sessions.

The subject matter of the Closed Meeting scheduled for Tuesday, August 17, 2004 will be:

Formal orders of investigations;

Institution and settlement of injunctive actions;

Institution and settlement of administrative proceedings of an enforcement nature; and

Adjudicatory matters.

The subject matter of the Open Meeting scheduled for Wednesday, August 18, 2004 will be:

1. The Commission will consider whether to adopt amendments to rule 12b-1 under the Investment Company Act of 1940. The amended rule would prohibit investment companies from paying for the distribution of their shares with brokerage commissions. For further information, please contact William Middlebrooks at (202) 942-0690.

2. The Commission will consider whether to adopt amendments to Forms N-1A, N-2, N-3, and N-CSR that are designed to improve the disclosure provided by mutual funds and closed-end funds about their portfolio managers. The amendments would extend the existing requirement that a fund provide basic information in its prospectus regarding its portfolio manager to members of management teams. The amendments would also require a fund to disclose additional information about its portfolio managers in its Statement of Additional Information (and, for closed-end funds, in reports on Form N CSR), including other accounts they manage, compensation structure, and ownership of securities in the fund. For further information, please contact Sanjay Lamba at (202) 942-7926.

The subject matter of the Closed Meeting scheduled for Thursday, August 19, 2004 will be:

Formal orders of investigations;

Institution and settlement of injunctive actions;

Institution and settlement of administrative proceedings of an enforcement nature;

Amicus consideration; and

Regulatory matter regarding financial institutions.

At times, changes in Commission priorities require alterations in the scheduling of meeting items. For further information and to ascertain what, if any, matters have been added, deleted or postponed, please contact: the Office of the Secretary at (202) 942-7070.

August 10, 2004.
Jonathan G. Katz,
Secretary.

[FR Doc. 04-18529 Filed 8-10-04; 12:11 pm]

BILLING CODE 8010-01-P